DEPARTMENT OF THE INTERIOR

National Park Service

[NPS-NERO-CEBE-32227; PPNECEBE00, PPMPSAS1Z.Y00000]

Cedar Creek and Grove National Historical Park Advisory Commission Notice of Public Meeting

AGENCY: National Park Service, Interior.

ACTION: Meeting notice.

SUMMARY: In accordance with the Federal Advisory Committee Act of 1972, the National Park Service is hereby giving notice that the Cedar Creek and Belle Grove National Historical Park Advisory Commission (Commission) will meet as indicated below.

DATES: The meeting will be held on Thursday, September 16, 2021, from 9:00 a.m. to 11:00 a.m. (EASTERN).

ADDRESSES: The meeting will be held in the Middletown Town Hall Council Chambers, 7875 Church Street, Middletown, VA 22645. Enter through the rear of the building which leads directly into the council chambers. A teleconference may substitute for an in-person meeting if public health restrictions are in effect. Additional information will be made available on the Park's website: https://www.nps.gov/cebe/index.htm.

FOR FURTHER INFORMATION CONTACT: Karen Beck-Herzog, Site Manager, Cedar Creek and Belle Grove National Historical Park, P.O. Box 700, Middletown, Virginia 22645, telephone (540) 868-9176, or visit the park website: https://www.nps.gov/cebe/index.htm.

SUPPLEMENTARY INFORMATION: The Commission was designated by Congress to provide advice to the Secretary of the Interior on the preparation and implementation of the park's general management plan and to advise on land protection (16 U.S.C. 410iii-7). Individuals who are interested in the park, the implantation of the plan, or the business of the Commission are encouraged to attend the meeting. This meeting is open to the public. Interested members of the public may present, either orally or through written comments, information for the Commission to consider during the public meeting. Attendees and those wishing to provide comment are strongly encouraged to preregister through the contact information provided. A detailed final agenda will be posted 48 hours in advance of the meeting on the Commission's website at https://www.nps.gov/cebe/learn/management/park-advisory-commission.htm.

Purpose of the Meeting: The topics to be discussed include: general management plan next steps, visitor services and interpretation, land protection planning, historic preservation, and natural resource protection.

Commission meetings consist of the following:

1. General Introductions

2. Review and Approval of Commission Meeting Notes

3. Reports and Discussions

4. Old Business

5. New Business

6. Public Comments

7. Closing Remarks

Public Disclosure of Comments: Before including your address, phone number, email address, or other personal identifying information in your comment, you should be aware that your entire comment—including your personal identifying information—may be made publicly available at any time. While you can ask us in your comment to withhold your personal identifying information from public view, we cannot guarantee that we will be able to do so.

(Authority: 5 U.S.C. Appendix 2)

Alma Ripps,
Chief, Office of Policy.

[FR Doc. 2021-17366 Filed 8-12-21; 8:45 am]

BILLING CODE 4312-52-P